INTERNATIONAL TRADE COMMISSION

[Investigation No. 731-TA-752 (Fourth Review)]

Crawfish Tail Meat From China; Termination of Five-Year Review

AGENCY: United States International Trade Commission.

ACTION: Notice.

SUMMARY: The Commission instituted the subject five-year review in April 2019 to determine whether revocation of the antidumping duty order on crawfish tail meat from China would be likely to lead to continuation or recurrence of material injury. On June 7, 2019, the Department of Commerce published notice that it was revoking the order effective May 16, 2019, because no domestic interested party responded to its sunset review notice of initiation by the applicable deadline (84 FR 26647). Accordingly, the subject review is terminated.

DATES: June 17, 2019.

FOR FURTHER INFORMATION CONTACT: Christopher W. Robinson (202-205-2542), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: This review is being terminated under authority of title VII of the Tariff Act of 1930 and pursuant to section 751(c) of the Tariff Act of 1930 (19 U.S.C. 1675(c)). This notice is published pursuant to section 207.69 of the Commission's rules (19 CFR 207.69).

By order of the Commission.
Issued: June 17, 2019.
Lisa Barton,
Secretary to the Commission.

[FR Doc. 2019-13160 Filed 6-20-19; 8:45 am]

BILLING CODE 7020-02-P